DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona:
Maricopa (FEMA Docket No.: B-1172) | City of Peoria (10-09-1908P) | Oct. 21, 2010, Oct. 28, 2010, The Arizona Business Gazette | The Honorable Bob Barrett, Mayor, City of Peoria, 8401 West Monroe Street, Peoria, AZ 85345 | October 15, 2010 | 040050
Maricopa (FEMA Docket No.: B-1172) | Unincorporated areas of Maricopa County (10-09-1908P) | Oct. 21, 2010, Oct. 28, 2010, The Arizona Business Gazette | Mr. Don Stapley, Chairman, Maricopa County Board of Supervisors, 301 West Jefferson Street, 10th Floor, Phoenix, AZ 85003 | October 15, 2010 | 040037
Maricopa (FEMA Docket No.: B-1165) | Unincorporated areas of Maricopa County (10-09-1720P) | Sept. 30, 2010, Oct. 7, 2010, The Arizona Business Gazette | Mr. Don Stapley, Chairman, Maricopa County Board of Supervisors, 301 West Jefferson Street, 10th Floor, Phoenix, AZ 85003 | February 4, 2011 | 040037
Yavapai (FEMA Docket No.: B-1165) | City of Prescott (10-09-0220P) | Oct. 8, 2010, Oct. 15, 2010, The Daily Courier | The Honorable Marlin Kuykendall, Mayor, City of Prescott, 201 South Cortez Street, Prescott, AZ 86302 | February 14, 2011 | 040098
Yavapai (FEMA Docket No.: B-1165) | Unincorporated areas of Yavapai County (10-09-0220P) | Oct. 8, 2010, Oct. 15, 2010, The Daily Courier | Ms. Carol Springer, Chair, Yavapai County Board of Supervisors, 10 South 6th Street, Cottonwood, AZ 86326 | February 14, 2011 | 040093
California:
Placer (FEMA Docket No.: B-1165) | City of Rocklin (09-09-2897P) | Oct. 7, 2010, Oct. 14, 2010, The Placer Herald | The Honorable George Magnuson, Mayor, City of Rocklin, 3970 Rocklin Road, Rocklin, CA 95677 | February 11, 2011 | 060242
San Diego (FEMA Docket No.: B-1165) | Unincorporated areas of San Diego County (10-09-2166P) | Oct. 22, 2010, Oct. 29, 2010, The San Diego Transcript | Mr. Bill Horn, Chairman, San Diego County Board of Supervisors, 1600 Pacific Highway, San Diego, CA 92101 | November 18, 2010 | 060284
Colorado:
El Paso (FEMA Docket No.: B-1172) | City of Colorado Springs (10-08-0460P) | Oct. 27, 2010, Nov. 3, 2010, The El Paso County Advertiser and News | The Honorable Lionel Riviera, Mayor, City of Colorado Springs, P.O. Box 1575, Colorado Springs, CO 80903 | November 17, 2010 | 080060
Summit (FEMA Docket No.: B-1172) | Unincorporated areas of Summit County (10-08-0470P) | Nov. 5, 2010, Nov. 12, 2010, The Summit County Journal | Ms. Karn Stiegelmeier, Chair, Summit County Board of Commissioners, P.O. Box 68, Breckenridge, CO 80424 | November 29, 2010 | 080290
Weld (FEMA Docket No.: B-1172) | Town of Firestone (10-08-0823P) | Oct. 8, 2010, Oct. 15, 2010, The Greeley Tribune | The Honorable Chad Auer, Mayor, Town of Firestone, 151 Grant Avenue, P.O. Box 100, Firestone, CO 80520 | February 14, 2011 | 080241
Weld (FEMA Docket No.: B-1172) | Town of Frederick (10-08-0823P) | Oct. 8, 2010, Oct. 15, 2010, The Greeley Tribune | The Honorable Eric Doering, Mayor, Town of Frederick, 401 Locust Street, P.O. Box 435, Frederick, CO 80530 | February 14, 2011 | 080244
Weld (FEMA Docket No.: B-1172) | Unincorporated areas of Weld County (10-08-0823P) | Oct. 8, 2010, Oct. 15, 2010, The Greeley Tribune | Ms. Barbara Kirkmeyer, Chair, Weld County Board of Commissioners, 915 10th Street, P.O. Box 758, Greeley, CO 80632 | February 14, 2011 | 080266
Florida:
Collier (FEMA Docket No.: B-1172) | City of Marco Island (10-04-7495P) | Nov. 5, 2010, Nov. 12, 2010, The Naples Daily News | Mr. Frank Recker, Chairman, City of Marco Island Council, 50 Bald Eagle Drive, Marco Island, FL 34145 | October 27, 2010 | 120426
Sarasota (FEMA Docket No.: B-1172) | City of Sarasota (10-04-6569P) | Nov. 5, 2010, Nov. 12, 2010, The Sarasota Herald-Tribune | The Honorable Kelly M. Kirschner, Mayor, City of Sarasota, 1565 1st Street, Room 101, Sarasota, FL 34236 | October 28, 2010 | 125150
Georgia:
Forsyth (FEMA Docket No.: B-1172) | Unincorporated areas of Forsyth County (10-04-6459P) | Oct. 27, 2010, Nov. 3, 2010, The Forsyth County News | Mr. Brian R. Tam, Chairman, Forsyth County Board of Commissioners, 110 East Main Street, Suite 210, Cumming, GA 30040 | November 17. 2010 | 130312
South Carolina: Dorchester (FEMA Docket No.: B-1165) | Unincorporated areas of Dorchester County (10-04-6791P) | Oct. 8, 2010, Oct. 15, 2010, The Post and Courier | Mr. Larry Hargett, Chairman, Dorchester County Council, 201 Johnston Street, St. George, SC 29477 | February 14, 2011 | 450068
South Dakota:
Minnehaha (FEMA Docket No.: B-1165) | City of Hartford (10-08-0469P) | Oct. 8, 2010, Oct. 15, 2010, The Argus Leader | The Honorable Paul Zimmer, Mayor, City of Hartford, 125 North Main Avenue, Hartford, SD 57033 | February 14, 2011 | 460180
Minnehaha (FEMA Docket No.: B-1165) | Unincorporated areas of Minnehaha County (10-08-0469P) | Oct. 8, 2010, Oct. 15, 2010, The Argus Leader | Mr. John Pekas, Chairman, Minnehaha County Board of Commissioners, 415 North Dakota Avenue, 1st Floor, Sioux Falls, SD 57104 | February 14, 2011 | 460057
Utah:
Utah (FEMA Docket No.: B-1172) | City of Spanish Fork (10-08-0282P) | Oct. 8, 2010, Oct. 15, 2010, The Daily Herald | The Honorable G. Wayne Anderson, Mayor, City of Spanish Fork, 40 South Main Street, Spanish Fork, UT 84660 | February 14, 2011 | 490241
Utah (FEMA Docket No.: B-1172) | Unincorporated areas of Utah County (10-08-0282P) | Oct. 8, 2010, Oct. 15, 2010, The Daily Herald | Mr. Gary J. Anderson, Chairman, Utah County Board of Commissioners, 100 East Center Street, Suite 2300, Provo, UT 84606 | February 14, 2011 | 495517

(Catalog of Federal Domestic Assistance No. 97.022, “Flood Insurance.”)

Dated: March 30, 2011.
Sandra K. Knight,
Deputy Federal Insurance and Mitigation Administrator, Mitigation, Department of Homeland Security, Federal Emergency Management Agency.

[FR Doc. 2011-8841 Filed 4-12-11; 8:45 am]

BILLING CODE 9110-12-P